DEPARTMENT OF HEALTH AND HUMAN SERVICES

Centers for Disease Control and Prevention

[60-Day-12-12NF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, CDC 1600 Clifton Road, MS-D74, Atlanta, GA 30333 or send an email to omb@cdc.gov.

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

School Environment Study: Evaluating the Effects of CTG-supported School-based Nutrition and Physical Activity Policies on Students' Diet, Physical Activity, and Weight Status—New—National Center for Chronic Disease Prevention and Health Promotion (NCCDPHP), Centers for Disease Control and Prevention (CDC).

Background and Brief Description

The Prevention and Public Health Fund (PPHF) of the Patient Protection and Affordable Care Act of 2010 (ACA) provides an important opportunity for states, counties, territories, and tribes to advance public health across the lifespan and to reduce health disparities. The PPHF authorizes Community Transformation Grants (CTG) for the implementation, evaluation, and dissemination of evidence-based community preventive health activities. The CTG program emphasizes five strategic directions: (1) Tobacco-free living; (2) active lifestyles and healthy eating; (3) high impact, evidence-based clinical and other preventive services; (4) social and emotional well-being; and (5) healthy and safe physical environments.

The CTG program is administered by the Centers for Disease Control and Prevention (CDC), National Center for Chronic Disease Prevention and Health Promotion (NCCDPHP). As required by Section 4201 of the ACA, CDC is responsible for conducting a comprehensive evaluation of the CTG program which includes assessment over time of measures relating to each of the five strategic directions. CDC is requesting OMB approval to collect information needed for these assessments. This information collection will enable a multi-method evaluation of the school nutrition and physical activity environments and on related health indictors among students. The School Environment Study involves a quasi-experimental design that will assess nutrition-, physical activity-, and obesity-related outcomes and impacts, and compare differential changes in these outcomes and impacts between students sampled in middle schools supported by the CTG program and students sampled in middle schools not supported by the CTG program.

Four CTG program awardees (Broward County, Florida; Travis County, Texas; eight counties in Massachusetts (excludes the city of Boston and surrounding area); and Los Angeles County, California) were selected to participate in the School Environment Study based on planned support for activities to encourage nutrition and physical activity environment changes in middle schools. Across the four awardees, 40 middle schools will be selected for study participation. Twenty of the 40 selected middle schools will be among those targeted by the awardees to receive CTG-supported programs and the remaining 20 schools are among those not targeted to receive CTG program support.

The study design includes a five year data collection plan with three waves of data collection. Wave one (baseline data collection) will occur during the spring semester of the 2012-2013 school year; wave two (interim data collection) will occur during the spring semester of the 2014-2015 school year; and wave three (final data collection) will occur during the spring semester of the 2016-2017 school year. CDC plans to collect data from students, school staff (teachers and key stakeholders), and to conduct an observation of the school food environment.

Students. A sample of non-ability-tracked 7th- and 8th-grade classrooms will be randomly selected for data collection. All students in selected classrooms will be invited to participate in the Student Nutrition and Physical Activity Survey (SNAPAS) and measurement of height and weight. The SNAPAS in-classroom, paper-and-pencil questionnaire will collect information about students' dietary and physical activity behaviors and their attitudes and awareness toward healthful eating and physical activity. To collect supplemental information on diet and physical activity, a subset of students will complete a 24-hour dietary recall interview and another subset of students will have information collected about their physical activity through the use of an accelerometer (an electronic activity meter worn on the body).

School staff. Two data collections will assess reported implementation and enforcement of school policies on nutrition and physical activity. First, a random sample of 7th- and 8th-grade teachers will be invited to participate in a survey either by completing a paper-and-pencil questionnaire or web-based survey. Second, the principal, school cafeteria manager, lead physical education teacher, and a representative from the district wellness council will be invited to participate in a semi-structured telephone interview regarding policy and system changes to the school nutrition and physical activity environments.

School food environment. An observational data collection will provide detailed information about competitive foods available for sale to students through vending machines, cafeteria à la carte lines, and other on-premises venues (e.g., concession stands, school stores). This data collection will permit an evaluation of school food policy implementation and will contribute to an understanding of where and to what extent the school food environment is a facilitator or a barrier to healthful eating.

The SNAPAS, teacher survey, and school food observation will occur during waves one, two, and three. The measurement of student height and weight, student supplemental data collections (i.e., dietary recalls and physical activity), and interviews with key stakeholders will be conducted during waves one and three only. A different sample of respondents will be selected at each wave of data collection.

The information to be collected will allow CDC to estimate the effectiveness of evidence- and practice-based policies and practices to improve healthy school environments and, in turn, the health of middle school students in U.S. public schools. The information will permit CDC to expand the existing evidence base on the capacity for policy- and systems-level changes to impact individual health.

OMB approval is requested for the first three years of the five-year CTG project period, i.e., waves one and two of planned data collection. OMB approval for wave three data collection will be requested in a future submission.

Participation is voluntary and there are no costs to respondents other than their time.

Estimated Annualized Burden Hours
Type of respondents | Form name | Number of respondents | Number of responses per respondent | Average burden per response (in hr) | Total burden (in hr)
Students | Student Nutrition and Physical Activity Survey (SNAPAS) | 2,000 | 1 | 30/60 | 1,000
| Body mass index (BMI) data collection | 1,000 | 1 | 20/60 | 333
| Wear log for physical activity measurement | 200 | 1 | 15/60 | 50
| 24-hour dietary recall interview (initial recall) | 334 | 1 | 30/60 | 167
| 24-hour dietary recall interview (second recall) | 34 | 1 | 30/60 | 17
Teachers | Teacher survey | 400 | 1 | 10/60 | 67
School Officials | Semi-structured interview | 54 | 1 | 1 | 54
Total |  |  |  |  | 1,688

Kimberly S. Lane,
Deputy Director, Office of Scientific Integrity, Office of the Associate Director for Science, Office of the Director, Centers for Disease Control and Prevention.

[FR Doc. 2012-14396 Filed 6-12-12; 8:45 am]

BILLING CODE 4163-18-P